FEDERAL COMMUNICATIONS COMMISSION

47 CFR Part 27

[WT Docket No. 06-150; DA 17-810]

Service Rules for the 698-746, 747-762, and 777-792 MHz Bands; Correction

AGENCY: Federal Communications Commission.

ACTION: Proposed rule; correction.

SUMMARY: The Federal Communications Commission is correcting a document that appeared in the Federal Register on September 7, 2017. The document listed incorrect dates by which interested parties may file comments and reply comments.

DATES: This correction is applicable September 15, 2017.

FOR FURTHER INFORMATION CONTACT: Anna Gentry, Anna.Gentry@fcc.gov, of the Wireless Telecommunications Bureau, Mobility Division, (202) 418-7769.

SUPPLEMENTARY INFORMATION: In FR Doc. 2017-18987 appearing on page 42263 of the Federal Register of September 7, 2017, the following corrections are made:

Dates [Corrected]

On page 42263, the Dates heading is corrected to read “Interested parties may file comments on or before September 27, 2017, and reply comments on or before October 10, 2017.”

Federal Communications Commission.
Neşe Guendelsberger,
Senior Deputy Bureau Chief, Wireless Telecommunications Bureau.

[FR Doc. 2017-19481 Filed 9-14-17; 8:45 am]

BILLING CODE 6712-01-P